DEPARTMENT OF TRANSPORTATION

Office of the Secretary

Certificates of Public Convenience and Necessity and Foreign Air Carrier Permits

Notice of Applications for Certificates of Public Convenience and Necessity and Foreign Air Carrier Permits Filed Under Subpart B (formerly Subpart Q) during the Week Ending December 7, 2013. The following Applications for Certificates of Public Convenience and Necessity and Foreign Air Carrier Permits were filed under Subpart B (formerly Subpart Q) of the Department of Transportation's Procedural Regulations (See 14 CFR 301.201 et. seq.). The due date for Answers, Conforming Applications, or Motions to Modify Scope are set forth below for each application. Following the Answer period DOT may process the application by expedited procedures. Such procedures may consist of the adoption of a show-cause order, a tentative order, or in appropriate cases a final order without further proceedings.

Docket Number: DOT-OST-2013-0204.

Date Filed: December 2, 2013.

Due Date for Answers, Conforming Applications, or Motion to Modify Scope: December 23, 2013.

Description: Application of Norwegian Air International Limited (“Norwegian International”) requesting exemption authority and a foreign air carrier permit to enable it to conduct foreign scheduled and charter air transportation of persons, property and mail to the full extent permitted under the open skies U.S.-E.U.-Iceland-Norway Air Transport Agreement; Norwegian International requests authority to engage in: a. Foreign scheduled and charter air transportation of persons, property and mail from any point or points behind any Member State(s) of the European Union, via any point or points in any Member State and via intermediate points, to any point(s) in the United States and beyond; b. foreign scheduled and charter air transportation of persons, property, and mail between any point or points in the United States and any point or points in any member of the European Common Aviation Area; c. foreign scheduled and charter air transportation of persons property and mail between any point or points in Norway, via intermediate points, and any point or points in the United States; d. foreign scheduled and charter cargo air transportation between any point or points in the United States and any other point or points; e. other charters pursuant to the prior approval requirements; and f. scheduled and charter transportation consistent with any future, additional rights that may be granted to European Union carriers under the U.S.-E.U. Open Skies Agreement.

Barbara J. Hairston,
Supervisory Dockets Officer, Docket Operations, Federal Register Liaison.

[FR Doc. 2013-30077 Filed 12-17-13; 8:45 am]

BILLING CODE 4910-9X-P